DEPARTMENT OF HEALTH AND HUMAN SERVICES

Centers for Medicare & Medicaid Services

[Document Identifier: CMS-2744, CMS-2746, CMS-685, and CMS-10168]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: End Stage Renal Disease Medical Information ESRD Facility Survey; Use: The ESRD Facility Survey is completed by all Medicare-approved ESRD facilities once a year. The survey was designed to collect information concerning treatment trends, utilization of services and patterns of practice in treating ESRD patients. The aggregate patient information is collected from each Medicare-approved provider of dialysis and kidney transplant services. The information is used to assess and evaluate the local, regional and national levels of medical and social impact of ESRD care and are used extensively by researchers and suppliers of services for trend analysis. The information is available on the CMS Dialysis Facility Compare Web site and will enable patients to make informed decisions about their care by comparing dialysis facilities in their area. The ESRD Facility Survey Public Use File is also posted at: http://www.cms.hhs.gov/ESRDGeneralInformation/02_Data.asp#TopOfPage; Form Number: CMS-2744 (OMB#: 0938-0447); Frequency: Reporting—Annually; Affected Public: Business or other for-profit, not-for-profit institutions; Number of Respondents: 4,800; Total Annual Responses: 4,800; Total Annual Hours: 38,400.

2. Type of Information Collection Request: Extension of a currently approved collection; Title of Information Collection: End Stage Renal Disease Death Notification P.L. 95-292; 42 CFR 405.2133, 45 CFR 5-5b; 20 CFR Parts 401 and 422E Use: The ESRD Death Notification (CMS-2746) is completed by all Medicare-approved ESRD facilities upon the death of an ESRD patient. Its primary purpose is to collect fact of death and cause of death of ESRD patients. Certain other identifying information (e.g., name, Medicare claim number, and date of birth) is required for matching purposes. Federal regulations require that the ESRD Networks examine the mortality rates of every Medicare-approved facility within its area of responsibility. The Death Form provides the necessary data to assist the ESRD Networks in making decisions that result in improved patient care and in cost-effective distribution of ESRD resources. The data is used by the ESRD Networks to verify facility deaths and to monitor facility performance.; Form Number: CMS-2746 (OMB#: 0938-0448); Frequency: On occasion, weekly; Affected Public: Business or other for-profit, not-for-profit institutions; Number of Respondents: 4,719; Total Annual Responses: 75,504; Total Annual Hours: 37,752.

3. Type of Information Collection Request: Extension of a currently approved collection; Title of Information Collection: End Stage Renal Disease (ESRD) Network Semi-Annual Cost Report Forms and Supporting Regulations in 42 CFR section 405.2110 and 42 CFR 405.2112; Use: Section 1881(c) of the Social Security Act establishes End Stage Renal Disease (ESRD) Network contracts. The regulations found at 42 CFR 405.2110 and 405.2112 designated 18 ESRD Networks which are funded by renewable contracts. These contracts are on 3-year cycles. To better administer the program, CMS is requiring contractors to submit semi-annual cost reports. The purpose of the cost reports is to enable the ESRD Networks to report costs in a standardized manner. This will allow CMS to review, compare and project ESRD Network costs during the life of the contract. Form Number: CMS-685 (OMB#: 0938-0657); Frequency: Reporting—semi-annually; Affected Public: Not-for-profit institutions; Number of Respondents: 18; Total Annual Responses: 36; Total Annual Hours: 108.

4. Type of Information Collection Request: Extension of a currently approved collection; Title of Information Collection: Medicare Program: Complex Medical Review; Use: Complex medical review involves the application of clinical judgment by a licensed medical professional in order to evaluate medical records to determine whether an item or service is covered, and is reasonable and necessary. The information required under this collection is requested by Medicare contractors, and is requested of providers or suppliers submitting claims for payment from the Medicare program when data analysis indicates aberrant billing patterns which may present a vulnerability to the Medicare program. Form Number: CMS-10168 (OMB#: 0938-0969); Frequency: Recordkeeping and Reporting—As requested; Affected Public: Business or other for-profit and not-for-profit institutions; Number of Respondents: 1,169,683; Total Annual Responses: 2,900,000; Total Annual Hours: 966,666.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: August 17, 2006.
Michelle Shortt,
Director, Regulations Development Group, Office of Strategic Operations and Regulatory Affairs.

[FR Doc. E6-14043 Filed 8-24-06; 8:45 am]

BILLING CODE 4120-01-P